COMMISSION ON CIVIL RIGHTS

Notice of Public Meeting of the Indiana Advisory Committee; Revision.

AGENCY: Commission on Civil Rights

ACTION: Notice; revision of meeting date & time.

SUMMARY: The Commission on Civil Rights published a notice in the Federal Register on Wednesday, June 11, 2025, concerning a business meeting of the Indiana Advisory Committee. The October meeting has been rescheduled for Tuesday, October 14, 2025, from 2:00 p.m. to 3:30 p.m. ET (not October 16, 2025). To join this meeting, please register at: https://www.zoomgov.com/webinar/register/WN_C6ghMbu0Tn-9DUYT75TLOg.

FOR FURTHER INFORMATION CONTACT: Ana Victoria Fortes, Designated Federal Officer, at afortes@usccr.gov or (202) 681-0857.

Revision: In the Federal Register on Wednesday, June 11, 2025, in FR Document Number 2025-10628, on page 24564, correct the October meeting date and time to: Tuesday, October 14, 2025, from 2:00 p.m. to 3:30 p.m. Eastern Time.

Dated: September 15, 2025.
David Mussatt,
Supervisory Chief, Regional Programs Unit.

[FR Doc. 2025-18017 Filed 9-17-25; 8:45 am]

BILLING CODE P